DEPARTMENT OF LABOR

Employment and Training Administration

[TA-W-52,618]

Johnson Hosiery Mills, Inc., an Affiliate of Prewett Associated Mills, Ft. Payne, AL; Notice of Termination of Investigation

Pursuant to section 221 of the Trade Act of 1974, as amended, an investigation was initiated on August 19, 2003, in response to a worker petition filed by a company official on behalf of workers at Johnson Hosiery Mills, Inc., an affiliate of Prewett Associated Mills, Ft. Payne, Alabama.

The company official has requested that the petition be withdrawn. Consequently, further investigation would serve no purpose and the investigation is terminated.

Signed at Washington, DC, this 29th day of August, 2003.
Linda G. Poole,
Certifying Officer, Division of Trade Adjustment Assistance.

[FR Doc. 03-23703 Filed 9-16-03; 8:45 am]

BILLING CODE 4510-30-P